DEPARTMENT OF STATE

[Public Notice 12244]

RIN: 1400-AF75

Continental Shelf and Maritime Boundaries; Notice of Limits

SUMMARY: This notice provides updated information pertaining to the outer limits of the U.S. continental shelf.

DATES: These limits are in effect as of December 21, 2023.

FOR FURTHER INFORMATION CONTACT: Brian Van Pay, Executive Director, U.S. Extended Continental Shelf Project, Department of State, vanpaybj@state.gov.

SUPPLEMENTARY INFORMATION: By Presidential Proclamation No. 2667 made on September 28, 1945, the United States asserted jurisdiction and control over the natural resources of its continental shelf. Subsequent to that Presidential Proclamation and through its domestic laws, the United States has exercised sovereign rights and jurisdiction over its continental shelf, consistent with international law.

The Department of State on behalf of the Government of the United States hereby announces the outer limits of the continental shelf of the United States of America. The coordinates in this notice describe the outer limits of the continental shelf of the United States in areas beyond 200 nautical miles from the baseline from which the breadth of the territorial sea is measured, in accordance with international law.¹ In other areas, the outer limits of the continental shelf of the United States are the same as the limits of the exclusive economic zone of the United States set forth in Public Notice 12243 or any subsequent Public Notice pertaining to the limits of the U.S. exclusive economic zone in such areas that supersedes that notice.

¹ For more information on the outer limits of the U.S. continental shelf in areas beyond 200 nautical miles from the baseline from which the breadth of the territorial sea is measured, see the U.S. Extended Continental Shelf Project on the website of the Department of State (https://www.state.gov/u-s-extended-continental-shelf-project/).

The limits set forth in this notice are subject to future revision, including with respect to maritime boundary delimitation with neighboring countries. The Government of the United States has been, is, and will be engaged in consultations and negotiations with governments of neighboring countries concerning the delimitation of areas subject to the respective jurisdiction of the United States and of these countries. The outer limits of the continental shelf of the United States as set forth in this notice are without prejudice to any negotiations with these countries or to any positions that may have been or may be adopted respecting the limits of maritime jurisdiction in such areas.

The coordinates in this notice are expressed in decimal degrees and have six decimal places. All coordinates use the World Geodetic System 1984 (“WGS 84”) datum, unless otherwise noted. Some coordinates in this notice were derived from treaties that use a different datum or were expressed in degrees, minutes, and seconds. In the case of a discrepancy, the relevant treaties take precedence over the contents of this notice.

The term “straight line” means a geodesic line, which is the shortest distance between two points on the referenced ellipsoid and is the most common method of linking coordinates defining maritime limits and boundaries.

This notice is exempt from the requirements of 5 U.S.C. 553, to the extent those requirements apply, as it relates to a foreign affairs function of the United States. (See Title 5 U.S.C. 553 (a)(1).) This notice “`clearly and directly' involve[s] activities or actions characteristic of the conduct of international relations,” E.B. v. U.S. Dep't of State, 583 F. Supp. 3d 58, 66 (D.D.C. 2022), because it announces the locations of maritime boundaries agreed between the United States and other countries and the geographic limits within which the United States may exercise sovereign rights and jurisdiction in accordance with international law. See, e.g., City of New York v. Permanent Mission of India to United Nations, 618 F.3d 172, 201 (2d Cir. 2010). Since it is exempt from Section 553, the provisions of 5 U.S.C 553(d) do not apply, and this notice is in effect upon publication.

Arctic

In the Arctic, the outer limits of the continental shelf are defined by straight lines connecting the following fixed points:

Outer limit point | Latitude | Longitude
ARC-OL-001 | 75.648860 | -136.778228
ARC-OL-002 | 75.649727 | -136.786746
ARC-OL-003 | 75.652854 | -136.817738
ARC-OL-004 | 75.655966 | -136.848638
ARC-OL-005 | 75.659063 | -136.879692
ARC-OL-006 | 75.662145 | -136.910654
ARC-OL-007 | 75.665212 | -136.941770
ARC-OL-008 | 75.668264 | -136.972792
ARC-OL-009 | 75.671301 | -137.003969
ARC-OL-010 | 75.674323 | -137.035052
ARC-OL-011 | 75.677330 | -137.066290
ARC-OL-012 | 75.680322 | -137.097433
ARC-OL-013 | 75.683299 | -137.128730
ARC-OL-014 | 75.686261 | -137.159933
ARC-OL-015 | 75.689208 | -137.191290
ARC-OL-016 | 75.692140 | -137.222552
ARC-OL-017 | 75.695056 | -137.253967
ARC-OL-018 | 75.697958 | -137.285288
ARC-OL-019 | 75.700844 | -137.316762
ARC-OL-020 | 75.703715 | -137.348140
ARC-OL-021 | 75.706571 | -137.379672
ARC-OL-022 | 75.709412 | -137.411108
ARC-OL-023 | 75.712237 | -137.442697
ARC-OL-024 | 75.715048 | -137.474189
ARC-OL-025 | 75.717842 | -137.505835
ARC-OL-026 | 75.720623 | -137.537384
ARC-OL-027 | 75.723387 | -137.569086
ARC-OL-028 | 75.726137 | -137.600691
ARC-OL-029 | 75.728870 | -137.632448
ARC-OL-030 | 75.731590 | -137.664109
ARC-OL-031 | 75.734292 | -137.695921
ARC-OL-032 | 75.736981 | -137.727636
ARC-OL-033 | 75.739653 | -137.759503
ARC-OL-034 | 75.742311 | -137.791272
ARC-OL-035 | 75.744952 | -137.823192
ARC-OL-036 | 75.747580 | -137.855015
ARC-OL-037 | 75.750190 | -137.886989
ARC-OL-038 | 75.752786 | -137.918865
ARC-OL-039 | 75.755366 | -137.950892
ARC-OL-040 | 75.757932 | -137.982820
ARC-OL-041 | 75.760480 | -138.014899
ARC-OL-042 | 75.763015 | -138.046879
ARC-OL-043 | 75.765532 | -138.079009
ARC-OL-044 | 75.768036 | -138.111041
ARC-OL-045 | 75.770522 | -138.143222
ARC-OL-046 | 75.772996 | -138.175304
ARC-OL-047 | 75.775451 | -138.207536
ARC-OL-048 | 75.777893 | -138.239669
ARC-OL-049 | 75.780317 | -138.271950
ARC-OL-050 | 75.782728 | -138.304132
ARC-OL-051 | 75.785120 | -138.336463
ARC-OL-052 | 75.787500 | -138.368694
ARC-OL-053 | 75.789862 | -138.401074
ARC-OL-054 | 75.792210 | -138.433353
ARC-OL-055 | 75.794540 | -138.465781
ARC-OL-056 | 75.796858 | -138.498108
ARC-OL-057 | 75.799157 | -138.530584
ARC-OL-058 | 75.801443 | -138.562958
ARC-OL-059 | 75.803710 | -138.595480
ARC-OL-060 | 76.093986 | -142.486996
ARC-OL-061 | 76.096584 | -142.519768
ARC-OL-062 | 76.099168 | -142.552439
ARC-OL-063 | 76.101734 | -142.585264
ARC-OL-064 | 76.104287 | -142.617989
ARC-OL-065 | 76.106822 | -142.650869
ARC-OL-066 | 76.109343 | -142.683648
ARC-OL-067 | 76.111791 | -142.715763
ARC-OL-068 | 76.114285 | -142.748714
ARC-OL-069 | 76.114427 | -142.750588
ARC-OL-070 | 76.116899 | -142.783574
ARC-OL-071 | 76.119359 | -142.816458
ARC-OL-072 | 76.121800 | -142.849495
ARC-OL-073 | 76.124228 | -142.882431
ARC-OL-074 | 76.126639 | -142.915518
ARC-OL-075 | 76.128423 | -142.940046
ARC-OL-076 | 76.129255 | -142.951562
ARC-OL-077 | 76.131634 | -142.984702
ARC-OL-078 | 76.133999 | -143.017740
ARC-OL-079 | 76.136346 | -143.050930
ARC-OL-080 | 76.138680 | -143.084017
ARC-OL-081 | 76.140995 | -143.117257
ARC-OL-082 | 76.143297 | -143.150394
ARC-OL-083 | 76.145581 | -143.183682
ARC-OL-084 | 76.147852 | -143.216868
ARC-OL-085 | 76.150103 | -143.250205
ARC-OL-086 | 76.152343 | -143.283438
ARC-OL-087 | 76.154563 | -143.316822
ARC-OL-088 | 76.156771 | -143.350103
ARC-OL-089 | 76.158959 | -143.383535
ARC-OL-090 | 76.161135 | -143.416862
ARC-OL-091 | 76.163291 | -143.450340
ARC-OL-092 | 76.165436 | -143.483714
ARC-OL-093 | 76.167560 | -143.517237
ARC-OL-094 | 76.169673 | -143.550656
ARC-OL-095 | 76.171765 | -143.584225
ARC-OL-096 | 76.173846 | -143.617689
ARC-OL-097 | 76.175907 | -143.651302
ARC-OL-098 | 76.177956 | -143.684810
ARC-OL-099 | 76.179985 | -143.718467
ARC-OL-100 | 76.182002 | -143.752018
ARC-OL-101 | 76.183998 | -143.785719
ARC-OL-102 | 77.081172 | -145.626830
ARC-OL-103 | 77.088872 | -145.613031
ARC-OL-104 | 77.096586 | -145.599388
ARC-OL-105 | 77.104314 | -145.585902
ARC-OL-106 | 77.112057 | -145.572574
ARC-OL-107 | 77.119814 | -145.559403
ARC-OL-108 | 77.127585 | -145.546391
ARC-OL-109 | 77.135370 | -145.533538
ARC-OL-110 | 77.143168 | -145.520845
ARC-OL-111 | 77.150980 | -145.508311
ARC-OL-112 | 77.158805 | -145.495939
ARC-OL-113 | 77.166643 | -145.483728
ARC-OL-114 | 77.174494 | -145.471679
ARC-OL-115 | 77.182358 | -145.459792
ARC-OL-116 | 77.190234 | -145.448069
ARC-OL-117 | 77.197518 | -145.437389
ARC-OL-118 | 77.203850 | -145.428219
ARC-OL-119 | 77.211759 | -145.416930
ARC-OL-120 | 77.219679 | -145.405807
ARC-OL-121 | 77.227612 | -145.394848
ARC-OL-122 | 77.235556 | -145.384056
ARC-OL-123 | 77.243511 | -145.373431
ARC-OL-124 | 77.251478 | -145.362973
ARC-OL-125 | 77.259456 | -145.352682
ARC-OL-126 | 77.267444 | -145.342560
ARC-OL-127 | 77.275444 | -145.332607
ARC-OL-128 | 77.283453 | -145.322823
ARC-OL-129 | 77.291473 | -145.313210
ARC-OL-130 | 77.299503 | -145.303766
ARC-OL-131 | 77.307544 | -145.294494
ARC-OL-132 | 77.315593 | -145.285393
ARC-OL-133 | 77.627479 | -144.928204
ARC-OL-134 | 77.635532 | -144.918930
ARC-OL-135 | 77.641988 | -144.911629
ARC-OL-136 | 77.648285 | -144.904572
ARC-OL-137 | 77.656359 | -144.895690
ARC-OL-138 | 77.664442 | -144.886987
ARC-OL-139 | 77.672534 | -144.878461
ARC-OL-140 | 77.680635 | -144.870114
ARC-OL-141 | 77.688744 | -144.861946
ARC-OL-142 | 77.696861 | -144.853957
ARC-OL-143 | 77.704987 | -144.846149
ARC-OL-144 | 77.713121 | -144.838522
ARC-OL-145 | 77.721262 | -144.831076
ARC-OL-146 | 77.727624 | -144.825389
ARC-OL-147 | 77.729863 | -144.823410
ARC-OL-148 | 77.732101 | -144.821444
ARC-OL-149 | 77.736368 | -144.817682
ARC-OL-150 | 77.744526 | -144.810632
ARC-OL-151 | 77.752691 | -144.803766
ARC-OL-152 | 77.760864 | -144.797083
ARC-OL-153 | 77.769043 | -144.790584
ARC-OL-154 | 77.777228 | -144.784269
ARC-OL-155 | 77.785421 | -144.778140
ARC-OL-156 | 77.793619 | -144.772196
ARC-OL-157 | 77.801823 | -144.766438
ARC-OL-158 | 77.810034 | -144.760867
ARC-OL-159 | 77.818250 | -144.755483
ARC-OL-160 | 77.826471 | -144.750287
ARC-OL-161 | 77.834698 | -144.745279
ARC-OL-162 | 77.842930 | -144.740459
ARC-OL-163 | 77.851166 | -144.735828
ARC-OL-164 | 77.859408 | -144.731387
ARC-OL-165 | 77.867654 | -144.727136
ARC-OL-166 | 77.875904 | -144.723076
ARC-OL-167 | 77.884158 | -144.719207
ARC-OL-168 | 77.892416 | -144.715529
ARC-OL-169 | 77.900678 | -144.712043
ARC-OL-170 | 77.908944 | -144.708749
ARC-OL-171 | 77.917212 | -144.705649
ARC-OL-172 | 77.925484 | -144.702742
ARC-OL-173 | 77.933759 | -144.700029
ARC-OL-174 | 77.942036 | -144.697510
ARC-OL-175 | 77.950316 | -144.695185
ARC-OL-176 | 77.958598 | -144.693056
ARC-OL-177 | 77.966883 | -144.691123
ARC-OL-178 | 77.975169 | -144.689386
ARC-OL-179 | 77.983457 | -144.687845
ARC-OL-180 | 77.991746 | -144.686501
ARC-OL-181 | 78.000037 | -144.685355
ARC-OL-182 | 78.008329 | -144.684406
ARC-OL-183 | 78.016622 | -144.683656
ARC-OL-184 | 78.024915 | -144.683105
ARC-OL-185 | 78.033209 | -144.682753
ARC-OL-186 | 78.041503 | -144.682600
ARC-OL-187 | 78.049797 | -144.682647
ARC-OL-188 | 78.058091 | -144.682895
ARC-OL-189 | 78.214671 | -144.687776
ARC-OL-190 | 78.222965 | -144.688114
ARC-OL-191 | 78.565309 | -144.706873
ARC-OL-192 | 78.573602 | -144.707487
ARC-OL-193 | 78.581894 | -144.708312
ARC-OL-194 | 78.590186 | -144.709347
ARC-OL-195 | 78.598476 | -144.710593
ARC-OL-196 | 78.604872 | -144.711699
ARC-OL-197 | 78.612234 | -144.713127
ARC-OL-198 | 78.620520 | -144.714935
ARC-OL-199 | 78.628805 | -144.716956
ARC-OL-200 | 78.637087 | -144.719189
ARC-OL-201 | 78.645366 | -144.721636
ARC-OL-202 | 78.653644 | -144.724297
ARC-OL-203 | 78.661918 | -144.727171
ARC-OL-204 | 78.670190 | -144.730261
ARC-OL-205 | 78.678458 | -144.733565
ARC-OL-206 | 78.686723 | -144.737085
ARC-OL-207 | 78.694984 | -144.740820
ARC-OL-208 | 78.703242 | -144.744772
ARC-OL-209 | 78.710574 | -144.748464
ARC-OL-210 | 78.716839 | -144.751738
ARC-OL-211 | 78.725086 | -144.756241
ARC-OL-212 | 78.733328 | -144.760961
ARC-OL-213 | 78.741565 | -144.765899
ARC-OL-214 | 78.749798 | -144.771055
ARC-OL-215 | 78.758025 | -144.776429
ARC-OL-216 | 78.766247 | -144.782023
ARC-OL-217 | 78.774463 | -144.787835
ARC-OL-218 | 78.780698 | -144.792395
ARC-OL-219 | 78.788153 | -144.798008
ARC-OL-220 | 78.796353 | -144.804396
ARC-OL-221 | 78.804547 | -144.811005
ARC-OL-222 | 78.812734 | -144.817834
ARC-OL-223 | 78.820914 | -144.824883
ARC-OL-224 | 78.829087 | -144.832154
ARC-OL-225 | 78.837253 | -144.839646
ARC-OL-226 | 78.845411 | -144.847360
ARC-OL-227 | 79.591391 | -145.604936
ARC-OL-228 | 79.599527 | -145.613824
ARC-OL-229 | 79.607655 | -145.622950
ARC-OL-230 | 79.615774 | -145.632316
ARC-OL-231 | 79.623885 | -145.641922
ARC-OL-232 | 79.637744 | -145.658571
ARC-OL-233 | 79.645847 | -145.668403
ARC-OL-234 | 79.652143 | -145.676217
ARC-OL-235 | 79.659768 | -145.685816
ARC-OL-236 | 79.667848 | -145.696233
ARC-OL-237 | 79.675918 | -145.706892
ARC-OL-238 | 79.683515 | -145.717160
ARC-OL-239 | 79.690498 | -145.726786
ARC-OL-240 | 79.698540 | -145.738111
ARC-OL-241 | 79.706571 | -145.749678
ARC-OL-242 | 79.714591 | -145.761488
ARC-OL-243 | 79.722600 | -145.773541
ARC-OL-244 | 79.730598 | -145.785836
ARC-OL-245 | 79.738585 | -145.798374
ARC-OL-246 | 79.746559 | -145.811156
ARC-OL-247 | 79.754522 | -145.824182
ARC-OL-248 | 79.762472 | -145.837451
ARC-OL-249 | 79.770410 | -145.850964
ARC-OL-250 | 79.778335 | -145.864721
ARC-OL-251 | 79.786248 | -145.878723
ARC-OL-252 | 79.794147 | -145.892969
ARC-OL-253 | 79.802033 | -145.907459
ARC-OL-254 | 79.809905 | -145.922194
ARC-OL-255 | 79.817763 | -145.937174
ARC-OL-256 | 79.825608 | -145.952400
ARC-OL-257 | 79.833438 | -145.967870
ARC-OL-258 | 79.841253 | -145.983585
ARC-OL-259 | 79.849054 | -145.999546
ARC-OL-260 | 79.856840 | -146.015752
ARC-OL-261 | 79.864611 | -146.032204
ARC-OL-262 | 79.872366 | -146.048901
ARC-OL-263 | 79.880106 | -146.065844
ARC-OL-264 | 79.887830 | -146.083033
ARC-OL-265 | 79.895537 | -146.100468
ARC-OL-266 | 79.903229 | -146.118148
ARC-OL-267 | 79.910904 | -146.136074
ARC-OL-268 | 79.918562 | -146.154246
ARC-OL-269 | 79.926203 | -146.172664
ARC-OL-270 | 79.933826 | -146.191327
ARC-OL-271 | 79.941433 | -146.210237
ARC-OL-272 | 79.949021 | -146.229392
ARC-OL-273 | 79.956592 | -146.248793
ARC-OL-274 | 79.964144 | -146.268440
ARC-OL-275 | 79.970680 | -146.285680
ARC-OL-276 | 79.976923 | -146.302352
ARC-OL-277 | 79.984426 | -146.322657
ARC-OL-278 | 79.991909 | -146.343208
ARC-OL-279 | 79.999374 | -146.364004
ARC-OL-280 | 80.006819 | -146.385046
ARC-OL-281 | 80.014244 | -146.406333
ARC-OL-282 | 80.020394 | -146.424194
ARC-OL-283 | 80.027257 | -146.444343
ARC-OL-284 | 80.034629 | -146.466280
ARC-OL-285 | 80.041980 | -146.488463
ARC-OL-286 | 80.049311 | -146.510889
ARC-OL-287 | 80.056621 | -146.533561
ARC-OL-288 | 80.063909 | -146.556476
ARC-OL-289 | 80.071176 | -146.579636
ARC-OL-290 | 80.078421 | -146.603040
ARC-OL-291 | 80.085645 | -146.626688
ARC-OL-292 | 80.092846 | -146.650579
ARC-OL-293 | 80.100025 | -146.674714
ARC-OL-294 | 80.107181 | -146.699091
ARC-OL-295 | 80.114315 | -146.723712
ARC-OL-296 | 80.121425 | -146.748575
ARC-OL-297 | 80.128512 | -146.773681
ARC-OL-298 | 80.135576 | -146.799028
ARC-OL-299 | 80.142616 | -146.824617
ARC-OL-300 | 80.149632 | -146.850448
ARC-OL-301 | 80.156624 | -146.876520
ARC-OL-302 | 80.163591 | -146.902833
ARC-OL-303 | 80.189175 | -147.000611
ARC-OL-304 | 80.196104 | -147.027360
ARC-OL-305 | 80.203008 | -147.054349
ARC-OL-306 | 80.209886 | -147.081579
ARC-OL-307 | 80.216739 | -147.109049
ARC-OL-308 | 80.223566 | -147.136758
ARC-OL-309 | 80.230367 | -147.164705
ARC-OL-310 | 80.237142 | -147.192892
ARC-OL-311 | 80.243891 | -147.221316
ARC-OL-312 | 80.250614 | -147.249979
ARC-OL-313 | 80.257309 | -147.278878
ARC-OL-314 | 80.263978 | -147.308014
ARC-OL-315 | 80.270619 | -147.337387
ARC-OL-316 | 80.277233 | -147.366995
ARC-OL-317 | 80.283819 | -147.396839
ARC-OL-318 | 80.290377 | -147.426917
ARC-OL-319 | 80.296908 | -147.457229
ARC-OL-320 | 80.303409 | -147.487775
ARC-OL-321 | 80.309883 | -147.518555
ARC-OL-322 | 80.316327 | -147.549567
ARC-OL-323 | 80.322743 | -147.580811
ARC-OL-324 | 80.329129 | -147.612286
ARC-OL-325 | 80.335486 | -147.643992
ARC-OL-326 | 80.341813 | -147.675928
ARC-OL-327 | 80.348111 | -147.708094
ARC-OL-328 | 80.354378 | -147.740488
ARC-OL-329 | 80.360615 | -147.773111
ARC-OL-330 | 80.366822 | -147.805961
ARC-OL-331 | 80.372998 | -147.839039
ARC-OL-332 | 80.379143 | -147.872342
ARC-OL-333 | 80.385257 | -147.905871
ARC-OL-334 | 80.391339 | -147.939625
ARC-OL-335 | 80.397390 | -147.973602
ARC-OL-336 | 80.403409 | -148.007803
ARC-OL-337 | 80.409396 | -148.042226
ARC-OL-338 | 80.415351 | -148.076871
ARC-OL-339 | 80.421274 | -148.111737
ARC-OL-340 | 80.427164 | -148.146823
ARC-OL-341 | 80.433021 | -148.182129
ARC-OL-342 | 80.438845 | -148.217653
ARC-OL-343 | 80.444636 | -148.253394
ARC-OL-344 | 80.450394 | -148.289352
ARC-OL-345 | 80.456118 | -148.325526
ARC-OL-346 | 80.461808 | -148.361915
ARC-OL-347 | 80.467464 | -148.398519
ARC-OL-348 | 80.473085 | -148.435335
ARC-OL-349 | 80.478673 | -148.472364
ARC-OL-350 | 80.484225 | -148.509603
ARC-OL-351 | 80.489743 | -148.547054
ARC-OL-352 | 80.495226 | -148.584714
ARC-OL-353 | 80.500674 | -148.622582
ARC-OL-354 | 80.506086 | -148.660657
ARC-OL-355 | 80.511462 | -148.698939
ARC-OL-356 | 80.516803 | -148.737427
ARC-OL-357 | 80.522108 | -148.776119
ARC-OL-358 | 80.527376 | -148.815014
ARC-OL-359 | 80.532608 | -148.854111
ARC-OL-360 | 80.537804 | -148.893410
ARC-OL-361 | 80.542963 | -148.932908
ARC-OL-362 | 80.548084 | -148.972606
ARC-OL-363 | 80.553169 | -149.012502
ARC-OL-364 | 80.558216 | -149.052594
ARC-OL-365 | 80.563226 | -149.092882
ARC-OL-366 | 80.568198 | -149.133364
ARC-OL-367 | 80.573132 | -149.174040
ARC-OL-368 | 80.578028 | -149.214908
ARC-OL-369 | 80.582886 | -149.255966
ARC-OL-370 | 80.587706 | -149.297215
ARC-OL-371 | 80.592486 | -149.338651
ARC-OL-372 | 80.597228 | -149.380276
ARC-OL-373 | 80.601931 | -149.422086
ARC-OL-374 | 80.606595 | -149.464080
ARC-OL-375 | 80.611220 | -149.506259
ARC-OL-376 | 80.615805 | -149.548619
ARC-OL-377 | 80.619239 | -149.580709
ARC-OL-378 | 80.622709 | -149.613419
ARC-OL-379 | 80.627198 | -149.656216
ARC-OL-380 | 80.631647 | -149.699192
ARC-OL-381 | 80.636055 | -149.742343
ARC-OL-382 | 80.640423 | -149.785670
ARC-OL-383 | 80.644751 | -149.829170
ARC-OL-384 | 80.649037 | -149.872842
ARC-OL-385 | 80.653283 | -149.916685
ARC-OL-386 | 80.657488 | -149.960698
ARC-OL-387 | 80.661652 | -150.004878
ARC-OL-388 | 80.665774 | -150.049225
ARC-OL-389 | 80.669854 | -150.093737
ARC-OL-390 | 80.673893 | -150.138413
ARC-OL-391 | 80.677890 | -150.183251
ARC-OL-392 | 80.681845 | -150.228249
ARC-OL-393 | 80.685758 | -150.273407
ARC-OL-394 | 80.689629 | -150.318722
ARC-OL-395 | 80.693457 | -150.364193
ARC-OL-396 | 80.697242 | -150.409819
ARC-OL-397 | 80.700985 | -150.455598
ARC-OL-398 | 80.704685 | -150.501529
ARC-OL-399 | 80.708342 | -150.547609
ARC-OL-400 | 80.711955 | -150.593837
ARC-OL-401 | 80.715526 | -150.640213
ARC-OL-402 | 80.719052 | -150.686733
ARC-OL-403 | 80.722536 | -150.733397
ARC-OL-404 | 80.725975 | -150.780203
ARC-OL-405 | 80.729371 | -150.827149
ARC-OL-406 | 80.732722 | -150.874233
ARC-OL-407 | 80.736030 | -150.921455
ARC-OL-408 | 80.739293 | -150.968812
ARC-OL-409 | 80.742512 | -151.016302
ARC-OL-410 | 80.745686 | -151.063924
ARC-OL-411 | 80.748816 | -151.111676
ARC-OL-412 | 80.751901 | -151.159557
ARC-OL-413 | 80.754941 | -151.207565
ARC-OL-414 | 80.757936 | -151.255697
ARC-OL-415 | 80.760886 | -151.303953
ARC-OL-416 | 80.763791 | -151.352330
ARC-OL-417 | 80.766650 | -151.400826
ARC-OL-418 | 80.769464 | -151.449441
ARC-OL-419 | 80.772232 | -151.498172
ARC-OL-420 | 80.774954 | -151.547017
ARC-OL-421 | 80.777631 | -151.595975
ARC-OL-422 | 80.780262 | -151.645043
ARC-OL-423 | 80.782847 | -151.694221
ARC-OL-424 | 80.785386 | -151.743505
ARC-OL-425 | 80.787878 | -151.792895
ARC-OL-426 | 80.790324 | -151.842388
ARC-OL-427 | 80.792724 | -151.891982
ARC-OL-428 | 80.795077 | -151.941676
ARC-OL-429 | 80.797384 | -151.991468
ARC-OL-430 | 80.799644 | -152.041356
ARC-OL-431 | 80.801857 | -152.091337
ARC-OL-432 | 80.804024 | -152.141411
ARC-OL-433 | 80.806143 | -152.191575
ARC-OL-434 | 80.808215 | -152.241827
ARC-OL-435 | 80.810240 | -152.292166
ARC-OL-436 | 80.812218 | -152.342589
ARC-OL-437 | 80.814149 | -152.393094
ARC-OL-438 | 80.816032 | -152.443680
ARC-OL-439 | 80.817868 | -152.494344
ARC-OL-440 | 80.819657 | -152.545085
ARC-OL-441 | 80.821397 | -152.595901
ARC-OL-442 | 80.823090 | -152.646789
ARC-OL-443 | 80.824736 | -152.697748
ARC-OL-444 | 80.826333 | -152.748776
ARC-OL-445 | 80.827883 | -152.799870
ARC-OL-446 | 80.829385 | -152.851029
ARC-OL-447 | 80.830839 | -152.902251
ARC-OL-448 | 80.832244 | -152.953533
ARC-OL-449 | 80.833602 | -153.004874
ARC-OL-450 | 80.834912 | -153.056272
ARC-OL-451 | 80.836173 | -153.107724
ARC-OL-452 | 80.837386 | -153.159229
ARC-OL-453 | 80.838551 | -153.210785
ARC-OL-454 | 80.839667 | -153.262389
ARC-OL-455 | 80.840735 | -153.314039
ARC-OL-456 | 80.841754 | -153.365734
ARC-OL-457 | 80.842725 | -153.417472
ARC-OL-458 | 80.843648 | -153.469249
ARC-OL-459 | 80.844522 | -153.521065
ARC-OL-460 | 80.845347 | -153.572918
ARC-OL-461 | 80.846124 | -153.624804
ARC-OL-462 | 80.846852 | -153.676723
ARC-OL-463 | 80.847531 | -153.728671
ARC-OL-464 | 80.848162 | -153.780648
ARC-OL-465 | 80.848744 | -153.832650
ARC-OL-466 | 80.849277 | -153.884676
ARC-OL-467 | 80.849761 | -153.936724
ARC-OL-468 | 80.850196 | -153.988791
ARC-OL-469 | 80.850583 | -154.040876
ARC-OL-470 | 80.850921 | -154.092977
ARC-OL-471 | 80.851210 | -154.145091
ARC-OL-472 | 80.851450 | -154.197216
ARC-OL-473 | 80.851641 | -154.249351
ARC-OL-474 | 80.851783 | -154.301492
ARC-OL-475 | 80.851877 | -154.353639
ARC-OL-476 | 80.851921 | -154.405788
ARC-OL-477 | 80.851917 | -154.457939
ARC-OL-478 | 80.851863 | -154.510088
ARC-OL-479 | 80.851761 | -154.562234
ARC-OL-480 | 80.851610 | -154.614374
ARC-OL-481 | 80.851410 | -154.666507
ARC-OL-482 | 80.851161 | -154.718630
ARC-OL-483 | 80.850863 | -154.770742
ARC-OL-484 | 80.850517 | -154.822840
ARC-OL-485 | 80.850121 | -154.874922
ARC-OL-486 | 80.849677 | -154.926986
ARC-OL-487 | 80.849184 | -154.979030
ARC-OL-488 | 80.848642 | -155.031052
ARC-OL-489 | 80.848051 | -155.083050
ARC-OL-490 | 80.847412 | -155.135021
ARC-OL-491 | 80.846723 | -155.186965
ARC-OL-492 | 80.845987 | -155.238877
ARC-OL-493 | 80.845201 | -155.290758
ARC-OL-494 | 80.844367 | -155.342604
ARC-OL-495 | 80.843484 | -155.394413
ARC-OL-496 | 80.842553 | -155.446183
ARC-OL-497 | 80.841573 | -155.497913
ARC-OL-498 | 80.840545 | -155.549600
ARC-OL-499 | 81.380045 | -160.923666
ARC-OL-500 | 81.387954 | -160.940313
ARC-OL-501 | 81.395849 | -160.957254
ARC-OL-502 | 81.403730 | -160.974489
ARC-OL-503 | 81.411598 | -160.992020
ARC-OL-504 | 81.419452 | -161.009846
ARC-OL-505 | 81.427291 | -161.027967
ARC-OL-506 | 81.435116 | -161.046384
ARC-OL-507 | 81.442927 | -161.065097
ARC-OL-508 | 81.450722 | -161.084106
ARC-OL-509 | 81.458502 | -161.103411
ARC-OL-510 | 81.466267 | -161.123013
ARC-OL-511 | 81.474016 | -161.142913
ARC-OL-512 | 81.481749 | -161.163109
ARC-OL-513 | 81.489467 | -161.183602
ARC-OL-514 | 81.497167 | -161.204393
ARC-OL-515 | 81.504851 | -161.225482
ARC-OL-516 | 81.512519 | -161.246868
ARC-OL-517 | 81.520169 | -161.268553
ARC-OL-518 | 81.527802 | -161.290535
ARC-OL-519 | 81.535417 | -161.312815
ARC-OL-520 | 81.543015 | -161.335394
ARC-OL-521 | 81.550594 | -161.358271
ARC-OL-522 | 81.558156 | -161.381447
ARC-OL-523 | 81.565699 | -161.404921
ARC-OL-524 | 81.573223 | -161.428694
ARC-OL-525 | 81.580728 | -161.452765
ARC-OL-526 | 81.588214 | -161.477135
ARC-OL-527 | 81.595680 | -161.501804
ARC-OL-528 | 81.603127 | -161.526772
ARC-OL-529 | 81.610553 | -161.552038
ARC-OL-530 | 81.617960 | -161.577602
ARC-OL-531 | 81.625346 | -161.603466
ARC-OL-532 | 81.632712 | -161.629628
ARC-OL-533 | 81.640057 | -161.656088
ARC-OL-534 | 81.647380 | -161.682847
ARC-OL-535 | 81.654682 | -161.709905
ARC-OL-536 | 81.661963 | -161.737261
ARC-OL-537 | 81.669222 | -161.764914
ARC-OL-538 | 81.676458 | -161.792866
ARC-OL-539 | 81.683673 | -161.821116
ARC-OL-540 | 81.690865 | -161.849664
ARC-OL-541 | 81.698034 | -161.878509
ARC-OL-542 | 81.705180 | -161.907651
ARC-OL-543 | 81.712302 | -161.937091
ARC-OL-544 | 81.719402 | -161.966828
ARC-OL-545 | 81.726477 | -161.996861
ARC-OL-546 | 81.733529 | -162.027191
ARC-OL-547 | 81.740556 | -162.057817
ARC-OL-548 | 81.747559 | -162.088739
ARC-OL-549 | 81.754537 | -162.119957
ARC-OL-550 | 81.761490 | -162.151470
ARC-OL-551 | 81.768418 | -162.183278
ARC-OL-552 | 81.775321 | -162.215381
ARC-OL-553 | 81.782198 | -162.247778
ARC-OL-554 | 81.789049 | -162.280470
ARC-OL-555 | 81.795874 | -162.313455
ARC-OL-556 | 81.846851 | -162.563618
ARC-OL-557 | 81.853632 | -162.597286
ARC-OL-558 | 81.860386 | -162.631249
ARC-OL-559 | 81.867112 | -162.665506
ARC-OL-560 | 81.873812 | -162.700056
ARC-OL-561 | 81.880484 | -162.734900
ARC-OL-562 | 81.887128 | -162.770036
ARC-OL-563 | 81.893744 | -162.805464
ARC-OL-564 | 81.897623 | -162.826441
ARC-OL-565 | 81.903539 | -162.858724
ARC-OL-566 | 81.910086 | -162.894871
ARC-OL-567 | 81.916604 | -162.931308
ARC-OL-568 | 81.928118 | -162.995926
ARC-OL-569 | 81.934624 | -163.032555
ARC-OL-570 | 81.941100 | -163.069474
ARC-OL-571 | 81.947547 | -163.106682
ARC-OL-572 | 81.953965 | -163.144179
ARC-OL-573 | 81.960352 | -163.181965
ARC-OL-574 | 81.966710 | -163.220038
ARC-OL-575 | 81.973038 | -163.258397
ARC-OL-576 | 81.979335 | -163.297043
ARC-OL-577 | 81.985601 | -163.335974
ARC-OL-578 | 81.991837 | -163.375189
ARC-OL-579 | 81.998041 | -163.414689
ARC-OL-580 | 82.004214 | -163.454472
ARC-OL-581 | 82.010355 | -163.494536
ARC-OL-582 | 82.015663 | -163.529562
ARC-OL-583 | 82.021157 | -163.566201
ARC-OL-584 | 82.027210 | -163.607042
ARC-OL-585 | 82.033230 | -163.648161
ARC-OL-586 | 82.039218 | -163.689559
ARC-OL-587 | 82.045173 | -163.731234
ARC-OL-588 | 82.051095 | -163.773186
ARC-OL-589 | 82.056983 | -163.815413
ARC-OL-590 | 82.062838 | -163.857915
ARC-OL-591 | 82.068660 | -163.900691
ARC-OL-592 | 82.074447 | -163.943739
ARC-OL-593 | 82.080200 | -163.987059
ARC-OL-594 | 82.085918 | -164.030649
ARC-OL-595 | 82.091052 | -164.070243
ARC-OL-596 | 82.096573 | -164.113284
ARC-OL-597 | 82.102193 | -164.157634
ARC-OL-598 | 82.107778 | -164.202251
ARC-OL-599 | 82.113328 | -164.247133
ARC-OL-600 | 82.118841 | -164.292279
ARC-OL-601 | 82.124319 | -164.337689
ARC-OL-602 | 82.129761 | -164.383360
ARC-OL-603 | 82.135166 | -164.429292
ARC-OL-604 | 82.140535 | -164.475483
ARC-OL-605 | 82.145867 | -164.521933
ARC-OL-606 | 82.151162 | -164.568639
ARC-OL-607 | 82.156420 | -164.615602
ARC-OL-608 | 82.161641 | -164.662818
ARC-OL-609 | 82.166824 | -164.710288
ARC-OL-610 | 82.171969 | -164.758010
ARC-OL-611 | 82.177077 | -164.805981
ARC-OL-612 | 82.182146 | -164.854202
ARC-OL-613 | 82.187177 | -164.902671
ARC-OL-614 | 82.192169 | -164.951385
ARC-OL-615 | 82.197123 | -165.000345
ARC-OL-616 | 82.202037 | -165.049548
ARC-OL-617 | 82.225057 | -165.281850
ARC-OL-618 | 82.229906 | -165.331576
ARC-OL-619 | 82.234717 | -165.381543
ARC-OL-620 | 82.239487 | -165.431749
ARC-OL-621 | 82.244218 | -165.482191
ARC-OL-622 | 82.248909 | -165.532869
ARC-OL-623 | 82.253559 | -165.583781
ARC-OL-624 | 82.258169 | -165.634925
ARC-OL-625 | 82.262738 | -165.686300
ARC-OL-626 | 82.267267 | -165.737904
ARC-OL-627 | 82.271754 | -165.789736
ARC-OL-628 | 82.276200 | -165.841793
ARC-OL-629 | 82.280605 | -165.894074
ARC-OL-630 | 82.284968 | -165.946577
ARC-OL-631 | 82.338352 | -166.600594
ARC-OL-632 | 82.342592 | -166.654048
ARC-OL-633 | 82.346791 | -166.707719
ARC-OL-634 | 82.350947 | -166.761605
ARC-OL-635 | 82.355060 | -166.815704
ARC-OL-636 | 82.357659 | -166.850288
ARC-OL-637 | 82.361563 | -166.902798
ARC-OL-638 | 82.365568 | -166.957432
ARC-OL-639 | 82.369529 | -167.012272
ARC-OL-640 | 82.373447 | -167.067317
ARC-OL-641 | 82.377321 | -167.122564
ARC-OL-642 | 82.381152 | -167.178013
ARC-OL-643 | 82.384938 | -167.233660
ARC-OL-644 | 82.388681 | -167.289504
ARC-OL-645 | 82.392379 | -167.345543
ARC-OL-646 | 82.395905 | -167.399788
ARC-OL-647 | 82.397903 | -167.430800
ARC-OL-648 | 82.401499 | -167.487285
ARC-OL-649 | 82.405051 | -167.543958
ARC-OL-650 | 82.408557 | -167.600817
ARC-OL-651 | 82.412019 | -167.657859
ARC-OL-652 | 82.415435 | -167.715083
ARC-OL-653 | 82.418806 | -167.772487
ARC-OL-654 | 82.422131 | -167.830068
ARC-OL-655 | 82.425411 | -167.887824
ARC-OL-656 | 82.428645 | -167.945753
ARC-OL-657 | 82.431833 | -168.003852
ARC-OL-658 | 82.434975 | -168.062120
ARC-OL-659 | 82.438071 | -168.120555
ARC-OL-660 | 82.441121 | -168.179153
ARC-OL-661 | 82.444124 | -168.237913
ARC-OL-662 | 82.447081 | -168.296833
ARC-OL-663 | 82.449991 | -168.355909
ARC-OL-664 | 82.452854 | -168.415141
ARC-OL-665 | 82.455670 | -168.474525
ARC-OL-666 | 82.458440 | -168.534058
ARC-OL-667 | 82.461162 | -168.593740
ARC-OL-668 | 82.463836 | -168.653567
ARC-OL-669 | 82.466464 | -168.713537
ARC-OL-670 | 82.469044 | -168.773647
ARC-OL-671 | 82.471576 | -168.833895
ARC-OL-672 | 82.474060 | -168.894280
ARC-OL-673 | 82.476497 | -168.954797
ARC-OL-674 | 82.477370 | -168.976944

ARC-OL-001 is located on the 200 nautical mile limit of Canada. ARC-OL-674 is located on the maritime boundary set forth in the U.S.-Russia maritime boundary agreement of 1990.² From ARC-OL-674, the outer limits of the U.S. continental shelf extend south along the 168°58′37″ W meridian, consistent with the U.S.-Russia maritime boundary agreement of 1990.

² Agreement between the United States of America and the Union of Soviet Socialist Republics on the Maritime Boundary, signed June 1, 1990, Senate Treaty Doc. 102-22, and applied provisionally by agreement, effective June 15, 1990, TIAS 11451. (The Russian Federation is the successor of the USSR with respect to the 1990 Agreement and the agreement to provisionally apply it.)

Atlantic (East Coast)

In the Atlantic (East Coast), the outer limits of the continental shelf are defined by straight lines connecting the following fixed points:

Outer limit point | Latitude | Longitude
ATL-OL-001 | 38.905000 | -64.392292
ATL-OL-002 | 38.626417 | -64.620030
ATL-OL-003 | 38.331444 | -65.557815
ATL-OL-004 | 37.877221 | -66.116298
ATL-OL-005 | 37.260735 | -66.992063
ATL-OL-006 | 37.081071 | -67.431569
ATL-OL-007 | 37.019608 | -67.621243
ATL-OL-008 | 36.644833 | -68.758685
ATL-OL-009 | 36.181790 | -69.314812
ATL-OL-010 | 35.509520 | -70.078668
ATL-OL-011 | 34.931101 | -70.828741
ATL-OL-012 | 34.206847 | -71.497220
ATL-OL-013 | 33.385252 | -72.029324
ATL-OL-014 | 33.276756 | -71.999232
ATL-OL-015 | 32.364559 | -72.413228
ATL-OL-016 | 31.403007 | -72.082675
ATL-OL-017 | 31.196463 | -71.776196
ATL-OL-018 | 30.447158 | -71.520658
ATL-OL-019 | 29.919863 | -72.351233
ATL-OL-020 | 29.914941 | -72.358940
ATL-OL-021 | 29.910001 | -72.366672
ATL-OL-022 | 29.905097 | -72.374394
ATL-OL-023 | 29.900175 | -72.382141
ATL-OL-024 | 29.895289 | -72.389876
ATL-OL-025 | 29.890386 | -72.397638
ATL-OL-026 | 29.885518 | -72.405388
ATL-OL-027 | 29.880633 | -72.413164
ATL-OL-028 | 29.875784 | -72.420929
ATL-OL-029 | 29.870917 | -72.428719
ATL-OL-030 | 29.866086 | -72.436498
ATL-OL-031 | 29.861238 | -72.444303
ATL-OL-032 | 29.856425 | -72.452095
ATL-OL-033 | 29.851595 | -72.459915
ATL-OL-034 | 29.846801 | -72.467722
ATL-OL-035 | 29.841990 | -72.475555
ATL-OL-036 | 29.837214 | -72.483376
ATL-OL-037 | 29.832421 | -72.491224
ATL-OL-038 | 29.827664 | -72.499059
ATL-OL-039 | 29.822889 | -72.506920
ATL-OL-040 | 29.818150 | -72.514770
ATL-OL-041 | 29.813395 | -72.522645
ATL-OL-042 | 29.808674 | -72.530508
ATL-OL-043 | 29.803937 | -72.538398
ATL-OL-044 | 29.799235 | -72.546275
ATL-OL-045 | 29.794517 | -72.554178
ATL-OL-046 | 29.789834 | -72.562069
ATL-OL-047 | 29.785134 | -72.569987
ATL-OL-048 | 29.780469 | -72.577891
ATL-OL-049 | 29.775788 | -72.585822
ATL-OL-050 | 29.771142 | -72.593741
ATL-OL-051 | 29.766479 | -72.601686
ATL-OL-052 | 29.761852 | -72.609618
ATL-OL-053 | 29.757208 | -72.617576
ATL-OL-054 | 29.752600 | -72.625522
ATL-OL-055 | 29.747975 | -72.633494
ATL-OL-056 | 29.743385 | -72.641453
ATL-OL-057 | 29.738779 | -72.649439
ATL-OL-058 | 29.734208 | -72.657411
ATL-OL-059 | 29.729621 | -72.665411
ATL-OL-060 | 29.725069 | -72.673397
ATL-OL-061 | 29.720501 | -72.681410
ATL-OL-062 | 29.715967 | -72.689409
ATL-OL-063 | 29.711418 | -72.697435
ATL-OL-064 | 29.706903 | -72.705448
ATL-OL-065 | 29.702373 | -72.713487
ATL-OL-066 | 29.697878 | -72.721513
ATL-OL-067 | 29.693366 | -72.729566
ATL-OL-068 | 29.688890 | -72.737605
ATL-OL-069 | 29.684397 | -72.745671
ATL-OL-070 | 29.679940 | -72.753723
ATL-OL-071 | 29.675466 | -72.761802
ATL-OL-072 | 29.671027 | -72.769867
ATL-OL-073 | 29.666573 | -72.777960
ATL-OL-074 | 29.662154 | -72.786038
ATL-OL-075 | 29.657718 | -72.794143
ATL-OL-076 | 29.653318 | -72.802234
ATL-OL-077 | 29.648902 | -72.810353
ATL-OL-078 | 29.644521 | -72.818456
ATL-OL-079 | 29.640124 | -72.826588
ATL-OL-080 | 29.635762 | -72.834704
ATL-OL-081 | 29.631384 | -72.842849
ATL-OL-082 | 29.627041 | -72.850978
ATL-OL-083 | 29.622682 | -72.859135
ATL-OL-084 | 29.618359 | -72.867277
ATL-OL-085 | 29.614019 | -72.875447
ATL-OL-086 | 29.609715 | -72.883602
ATL-OL-087 | 29.605395 | -72.891784
ATL-OL-088 | 29.601110 | -72.899952
ATL-OL-089 | 29.596809 | -72.908147
ATL-OL-090 | 29.592543 | -72.916327
ATL-OL-091 | 29.588262 | -72.924534
ATL-OL-092 | 29.584015 | -72.932727
ATL-OL-093 | 29.579753 | -72.940947
ATL-OL-094 | 29.575526 | -72.949152
ATL-OL-095 | 29.571283 | -72.957384
ATL-OL-096 | 29.567076 | -72.965602
ATL-OL-097 | 29.562852 | -72.973847
ATL-OL-098 | 29.558664 | -72.982076
ATL-OL-099 | 29.554460 | -72.990333
ATL-OL-100 | 29.550291 | -72.998575
ATL-OL-101 | 29.546107 | -73.006845
ATL-OL-102 | 29.541958 | -73.015098
ATL-OL-103 | 29.537793 | -73.023380
ATL-OL-104 | 29.533663 | -73.031646
ATL-OL-105 | 29.529518 | -73.039940
ATL-OL-106 | 29.525408 | -73.048218
ATL-OL-107 | 29.521282 | -73.056524
ATL-OL-108 | 29.517191 | -73.064814
ATL-OL-109 | 29.513085 | -73.073132
ATL-OL-110 | 29.509014 | -73.081434
ATL-OL-111 | 29.504928 | -73.089764
ATL-OL-112 | 29.500876 | -73.098078
ATL-OL-113 | 29.496810 | -73.106420
ATL-OL-114 | 29.492777 | -73.114745
ATL-OL-115 | 29.488731 | -73.123099
ATL-OL-116 | 29.484718 | -73.131437
ATL-OL-117 | 29.480691 | -73.139802
ATL-OL-118 | 29.476698 | -73.148151
ATL-OL-119 | 29.472691 | -73.156529
ATL-OL-120 | 29.468718 | -73.164889
ATL-OL-121 | 29.464731 | -73.173278
ATL-OL-122 | 29.460777 | -73.181651
ATL-OL-123 | 29.456810 | -73.190051
ATL-OL-124 | 29.452876 | -73.198435
ATL-OL-125 | 29.448928 | -73.206847
ATL-OL-126 | 29.445015 | -73.215242
ATL-OL-127 | 29.441087 | -73.223666
ATL-OL-128 | 29.437193 | -73.232072
ATL-OL-129 | 29.433285 | -73.240508
ATL-OL-130 | 29.429411 | -73.248925
ATL-OL-131 | 29.425523 | -73.257372
ATL-OL-132 | 28.521200 | -73.746301
ATL-OL-133 | 28.513049 | -73.744375
ATL-OL-134 | 28.504870 | -73.742443
ATL-OL-135 | 28.496714 | -73.740545
ATL-OL-136 | 28.488530 | -73.738640
ATL-OL-137 | 28.480369 | -73.736768
ATL-OL-138 | 28.472180 | -73.734890
ATL-OL-139 | 28.464015 | -73.733045
ATL-OL-140 | 28.455821 | -73.731194
ATL-OL-141 | 28.447651 | -73.729376
ATL-OL-142 | 28.439453 | -73.727552
ATL-OL-143 | 28.431279 | -73.725760
ATL-OL-144 | 28.423076 | -73.723963
ATL-OL-145 | 28.414896 | -73.722199
ATL-OL-146 | 28.406689 | -73.720428
ATL-OL-147 | 28.398505 | -73.718691
ATL-OL-148 | 28.390293 | -73.716947
ATL-OL-149 | 28.382105 | -73.715237
ATL-OL-150 | 28.373889 | -73.713520
ATL-OL-151 | 28.365697 | -73.711836
ATL-OL-152 | 28.357476 | -73.710147
ATL-OL-153 | 28.349279 | -73.708490
ATL-OL-154 | 28.341054 | -73.706827
ATL-OL-155 | 28.332853 | -73.705197
ATL-OL-156 | 28.324624 | -73.703561
ATL-OL-157 | 28.316419 | -73.701958
ATL-OL-158 | 28.308186 | -73.700349
ATL-OL-159 | 28.299977 | -73.698772
ATL-OL-160 | 28.291740 | -73.697191
ATL-OL-161 | 28.283527 | -73.695641
ATL-OL-162 | 28.275285 | -73.694086
ATL-OL-163 | 28.267068 | -73.692563
ATL-OL-164 | 28.258823 | -73.691036
ATL-OL-165 | 28.250602 | -73.689540
ATL-OL-166 | 28.242353 | -73.688039
ATL-OL-167 | 28.234128 | -73.686569
ATL-OL-168 | 28.225875 | -73.685095
ATL-OL-169 | 28.217647 | -73.683653
ATL-OL-170 | 28.209390 | -73.682206
ATL-OL-171 | 28.201158 | -73.680791
ATL-OL-172 | 28.192898 | -73.679370
ATL-OL-173 | 28.184663 | -73.677982
ATL-OL-174 | 28.176399 | -73.676589
ATL-OL-175 | 28.168160 | -73.675227
ATL-OL-176 | 28.160232 | -73.673917

ATL-OL-001 is located on a seaward extension of the maritime boundary between the United States and Canada delimited by a chamber of the International Court of Justice in 1984.³ ATL-OL-176 is located on the 200 nautical mile limit of The Bahamas.

³ Delimitation of the Maritime Boundary in the Gulf of Maine Area, 1984 I.C.J. Reports 246 (Judgment of Oct. 12, 1984). The boundary delimited by a chamber of International Court of Justice does not extend beyond 200 nautical miles from the baseline from which the breadth of the U.S. territorial sea is measured. For purposes of delineating its continental shelf limits in areas beyond 200 nautical miles, the United States has computed a seaward extension of the Chamber's delimitation line in the area beyond 200 nautical miles from the U.S. baseline, maintaining the same southeasterly trajectory.

Bering Sea

In the Bering Sea, the outer limits of the continental shelf are defined by lines and arcs connecting the following fixed points:

Outer limit point | Latitude | Longitude
BER-OL-001 | 60.194167 | -179.780278
BER-OL-002 | 59.972778 | -179.681944
BER-OL-003 | 58.955000 | 178.566389
BER-OL-004 | 58.970556 | 178.251389
BER-OL-005 | 58.966111 | 178.243611
BER-OL-006 | 58.801667 | 177.970556
BER-OL-007 | 58.636667 | 177.698056
BER-OL-008 | 58.471111 | 177.426111
BER-OL-009 | 58.304722 | 177.155000
BER-OL-010 | 58.137500 | 176.884444
BER-OL-011 | 57.969722 | 176.614444
BER-OL-012 | 57.801111 | 176.345278
BER-OL-013 | 57.631667 | 176.076389
BER-OL-014 | 57.461667 | 175.808611
BER-OL-015 | 57.291111 | 175.541111
BER-OL-016 | 57.119722 | 175.274167
BER-OL-017 | 56.947500 | 175.008056
BER-OL-018 | 56.774722 | 174.742222
BER-OL-019 | 56.601111 | 174.477222
BER-OL-020 | 56.426944 | 174.212778
BER-OL-021 | 56.251944 | 173.948889

Outer limit points BER-OL-001 to BER-OL-021 correspond to boundary points 36 to 56 of the U.S.-Russia boundary agreement of 1990.⁴ Consistent with that agreement:

⁴ For U.S.-Russia maritime boundary agreement, see note 2.

• Between BER-OL-001 and BER-OL-002, the outer limit “extends along an arc with a radius of 200 nautical miles and a center at 60°38′23″ N, 173°06′54″ W.”

• Between BER-OL-002 and BER-OL-003, the outer limit “extends . . . along the rhumb line, defined by the following points: 64°05′08″ N, 172°00′00″ W, 53°43′42″ N, 170°18′31″ E.”

• Between BER-OL-003 and BER-OL-004, the outer limit “extends along an arc with a radius of 200 nautical miles and a center at 62°16′09″ N, 179°05′34″ E.”

• Outer limit points BER-OL-004 to BER-OL-021 are connected by straight lines.

Eastern Gulf of Mexico

In the Eastern Gulf of Mexico, the outer limits of the continental shelf are defined by straight lines connecting the following fixed points:

Outer limit point | Latitude | Longitude
GME-OL-001 | 25.699417 | -88.384894
GME-OL-002 | 25.698383 | -88.334067
GME-OL-003 | 25.685397 | -88.171717
GME-OL-004 | 25.667461 | -87.952567
GME-OL-005 | 25.613831 | -87.325197
GME-OL-006 | 25.590275 | -87.051397
GME-OL-007 | 25.487900 | -87.013733
GME-OL-008 | 25.207300 | -86.553308

Outer limit points GME-OL-001 to GME-OL-007 correspond to boundary points 1 to 7 of the 2017 U.S.-Mexico maritime boundary treaty.⁵ Outer limit points GME-OL-008 and GME-OL-007 correspond to boundary points 1 and 2 of the 2017 U.S.-Cuba maritime boundary treaty.⁶

⁵ Treaty between the Government of the United States of America and the Government of the United Mexican States on the Delimitation of the Maritime Boundary in the Eastern Gulf of Mexico, signed January 18, 2017, not in force.

⁶ Treaty between the United States of America and the Republic of Cuba on the Delimitation of the Continental Shelf in the Eastern Gulf of Mexico beyond 200 Nautical Miles, signed January 18, 2017, and applied provisionally by agreement, effective January 18, 2017.

Western Gulf of Mexico

In the Western Gulf of Mexico, the outer limits of the continental shelf are defined by straight lines connecting the following fixed points:

Outer limit point | Latitude | Longitude
GMW-OL-001 | 25.997028 | -93.445139
GMW-OL-002 | 25.907611 | -93.252750
GMW-OL-003 | 25.864167 | -93.167500
GMW-OL-004 | 25.812556 | -93.066361
GMW-OL-005 | 25.776083 | -92.994861
GMW-OL-006 | 25.710333 | -92.954444
GMW-OL-007 | 25.674250 | -92.932222
GMW-OL-008 | 25.667556 | -92.779111
GMW-OL-009 | 25.656611 | -92.537139
GMW-OL-010 | 25.656194 | -92.527889
GMW-OL-011 | 25.637056 | -92.133139
GMW-OL-012 | 25.630750 | -92.009861
GMW-OL-013 | 25.617000 | -91.738639
GMW-OL-014 | 25.612833 | -91.658167
GMW-OL-015 | 25.661972 | -91.342000
GMW-OL-016 | 25.703917 | -91.090278

Outer limit points GMW-OL-001 to GMW-OL-016 correspond to the 16 boundary points set forth in the 2000 U.S.-Mexico maritime boundary treaty.⁷ Coordinates are in North American Datum 1983 (NAD 83), which are considered equivalent to WGS 84 for purposes of delineating the outer limits of the U.S. continental shelf.

⁷ Treaty between the Government of the United States of America and the Government of the United Mexican States on the Delimitation of the Continental Shelf in the Western Gulf of Mexico beyond 200 Nautical Miles, signed June 9, 2000, Treaty Doc. 106-39, entered into force January 17, 2001, TIAS 01-117.

Mariana Islands

In the area northeast of the Mariana Islands, the outer limits of the continental shelf are defined by a straight line connecting the following fixed points:

Outer limit point | Latitude | Longitude
MAR-OL-001 | 24.316155 | 145.120626
MAR-OL-002 | 23.816920 | 145.683481

Outer limit point MAR-OL-001 is located on the 200 nautical mile limit of Japan. Outer limit point MAR-OL-002 is located on the 200 nautical mile (exclusive economic zone) limit of the United States.

Pacific (West Coast)

In the Pacific (West Coast), the outer limits of the continental shelf are defined by straight lines connecting the following fixed points:

Outer limit point | Latitude | Longitude
PAC-OL-001 | 41.422234 | -128.787324
PAC-OL-002 | 41.356271 | -129.353869
PAC-OL-003 | 41.354928 | -129.364791
PAC-OL-004 | 41.353516 | -129.375696
PAC-OL-005 | 41.352034 | -129.386585
PAC-OL-006 | 41.350483 | -129.397457
PAC-OL-007 | 41.348862 | -129.408311
PAC-OL-008 | 41.347173 | -129.419146
PAC-OL-009 | 41.345414 | -129.429961
PAC-OL-010 | 41.343587 | -129.440756
PAC-OL-011 | 41.341691 | -129.451530
PAC-OL-012 | 41.339726 | -129.462282
PAC-OL-013 | 41.337693 | -129.473011
PAC-OL-014 | 41.335592 | -129.483716
PAC-OL-015 | 41.333422 | -129.494397
PAC-OL-016 | 41.331185 | -129.505053
PAC-OL-017 | 41.328879 | -129.515684
PAC-OL-018 | 41.326506 | -129.526287
PAC-OL-019 | 41.324065 | -129.536863
PAC-OL-020 | 41.321558 | -129.547412
PAC-OL-021 | 41.318983 | -129.557931
PAC-OL-022 | 41.316341 | -129.568420
PAC-OL-023 | 41.313632 | -129.578879
PAC-OL-024 | 41.310857 | -129.589307
PAC-OL-025 | 41.308015 | -129.599703
PAC-OL-026 | 41.305107 | -129.610066
PAC-OL-027 | 41.302134 | -129.620396
PAC-OL-028 | 41.299094 | -129.630692
PAC-OL-029 | 41.295989 | -129.640953
PAC-OL-030 | 41.292819 | -129.651178
PAC-OL-031 | 41.289584 | -129.661367
PAC-OL-032 | 41.286284 | -129.671518
PAC-OL-033 | 41.282919 | -129.681632
PAC-OL-034 | 41.279490 | -129.691707
PAC-OL-035 | 41.275997 | -129.701743
PAC-OL-036 | 41.272440 | -129.711739
PAC-OL-037 | 41.268819 | -129.721694
PAC-OL-038 | 41.265135 | -129.731608
PAC-OL-039 | 41.261389 | -129.741479
PAC-OL-040 | 41.257579 | -129.751308
PAC-OL-041 | 41.253707 | -129.761093
PAC-OL-042 | 41.249772 | -129.770834
PAC-OL-043 | 41.245776 | -129.780530
PAC-OL-044 | 41.241718 | -129.790181
PAC-OL-045 | 41.237599 | -129.799784
PAC-OL-046 | 41.233418 | -129.809341
PAC-OL-047 | 41.229177 | -129.818851
PAC-OL-048 | 41.224876 | -129.828312
PAC-OL-049 | 41.220514 | -129.837723
PAC-OL-050 | 41.216092 | -129.847085
PAC-OL-051 | 41.211611 | -129.856397
PAC-OL-052 | 41.207071 | -129.865658
PAC-OL-053 | 41.202472 | -129.874867
PAC-OL-054 | 41.197814 | -129.884023
PAC-OL-055 | 41.193098 | -129.893127
PAC-OL-056 | 41.188325 | -129.902177
PAC-OL-057 | 41.183494 | -129.911172
PAC-OL-058 | 41.178605 | -129.920113
PAC-OL-059 | 41.173660 | -129.928998
PAC-OL-060 | 41.168658 | -129.937827
PAC-OL-061 | 41.163601 | -129.946599
PAC-OL-062 | 41.158487 | -129.955314
PAC-OL-063 | 41.153319 | -129.963971
PAC-OL-064 | 41.148095 | -129.972569
PAC-OL-065 | 41.142816 | -129.981108
PAC-OL-066 | 41.137484 | -129.989587
PAC-OL-067 | 41.132097 | -129.998005
PAC-OL-068 | 41.126657 | -130.006363
PAC-OL-069 | 41.121164 | -130.014659
PAC-OL-070 | 41.115619 | -130.022892
PAC-OL-071 | 41.110021 | -130.031063
PAC-OL-072 | 41.104371 | -130.039171
PAC-OL-073 | 41.098670 | -130.047214
PAC-OL-074 | 41.092917 | -130.055193
PAC-OL-075 | 41.087115 | -130.063107
PAC-OL-076 | 41.081261 | -130.070956
PAC-OL-077 | 41.075358 | -130.078738
PAC-OL-078 | 41.069406 | -130.086454
PAC-OL-079 | 41.063404 | -130.094103
PAC-OL-080 | 41.057355 | -130.101683
PAC-OL-081 | 41.051257 | -130.109196
PAC-OL-082 | 41.045111 | -130.116640
PAC-OL-083 | 41.038918 | -130.124014
PAC-OL-084 | 41.032678 | -130.131319
PAC-OL-085 | 41.026392 | -130.138553
PAC-OL-086 | 41.020060 | -130.145717
PAC-OL-087 | 41.013683 | -130.152809
PAC-OL-088 | 41.007261 | -130.159830
PAC-OL-089 | 41.000794 | -130.166778
PAC-OL-090 | 40.994283 | -130.173654
PAC-OL-091 | 40.987729 | -130.180456
PAC-OL-092 | 40.981131 | -130.187185
PAC-OL-093 | 40.974491 | -130.193840
PAC-OL-094 | 40.967808 | -130.200420
PAC-OL-095 | 40.961084 | -130.206925
PAC-OL-096 | 40.954319 | -130.213354
PAC-OL-097 | 40.947513 | -130.219708
PAC-OL-098 | 40.940667 | -130.225985
PAC-OL-099 | 40.933780 | -130.232186
PAC-OL-100 | 40.926855 | -130.238310
PAC-OL-101 | 40.919891 | -130.244355
PAC-OL-102 | 40.912888 | -130.250323
PAC-OL-103 | 40.905848 | -130.256213
PAC-OL-104 | 40.898771 | -130.262024
PAC-OL-105 | 40.891656 | -130.267755
PAC-OL-106 | 40.884506 | -130.273407
PAC-OL-107 | 40.877319 | -130.278980
PAC-OL-108 | 40.870098 | -130.284472
PAC-OL-109 | 40.862841 | -130.289883
PAC-OL-110 | 40.855551 | -130.295213
PAC-OL-111 | 40.848226 | -130.300462
PAC-OL-112 | 40.840869 | -130.305629
PAC-OL-113 | 40.833479 | -130.310714
PAC-OL-114 | 40.826056 | -130.315717
PAC-OL-115 | 40.818602 | -130.320637
PAC-OL-116 | 40.811117 | -130.325474
PAC-OL-117 | 40.803602 | -130.330228
PAC-OL-118 | 40.796056 | -130.334898
PAC-OL-119 | 40.788481 | -130.339484
PAC-OL-120 | 40.780877 | -130.343986
PAC-OL-121 | 40.773244 | -130.348403
PAC-OL-122 | 40.765584 | -130.352736
PAC-OL-123 | 40.524405 | -130.486030
PAC-OL-124 | 40.516695 | -130.490195
PAC-OL-125 | 40.508959 | -130.494274
PAC-OL-126 | 40.501198 | -130.498268
PAC-OL-127 | 40.493410 | -130.502176
PAC-OL-128 | 40.485599 | -130.505998
PAC-OL-129 | 40.477763 | -130.509734
PAC-OL-130 | 40.469903 | -130.513384
PAC-OL-131 | 40.462020 | -130.516946
PAC-OL-132 | 40.454115 | -130.520422
PAC-OL-133 | 40.446188 | -130.523810
PAC-OL-134 | 40.438240 | -130.527112
PAC-OL-135 | 40.430270 | -130.530325
PAC-OL-136 | 40.422281 | -130.533451
PAC-OL-137 | 40.414271 | -130.536489
PAC-OL-138 | 40.406243 | -130.539439
PAC-OL-139 | 40.398196 | -130.542300
PAC-OL-140 | 40.390131 | -130.545073
PAC-OL-141 | 40.382048 | -130.547758
PAC-OL-142 | 40.373948 | -130.550353
PAC-OL-143 | 40.365833 | -130.552860
PAC-OL-144 | 40.357701 | -130.555277
PAC-OL-145 | 40.349554 | -130.557606
PAC-OL-146 | 40.341393 | -130.559845
PAC-OL-147 | 40.333217 | -130.561994
PAC-OL-148 | 40.325029 | -130.564054
PAC-OL-149 | 40.316827 | -130.566024
PAC-OL-150 | 40.308613 | -130.567905
PAC-OL-151 | 40.300387 | -130.569695
PAC-OL-152 | 40.292150 | -130.571395
PAC-OL-153 | 40.283902 | -130.573006
PAC-OL-154 | 40.275644 | -130.574526
PAC-OL-155 | 40.267377 | -130.575956
PAC-OL-156 | 40.259101 | -130.577296
PAC-OL-157 | 40.250817 | -130.578545
PAC-OL-158 | 40.242525 | -130.579704
PAC-OL-159 | 40.234226 | -130.580772
PAC-OL-160 | 40.225920 | -130.581750
PAC-OL-161 | 40.217609 | -130.582637
PAC-OL-162 | 40.209292 | -130.583434
PAC-OL-163 | 40.200970 | -130.584140
PAC-OL-164 | 40.192644 | -130.584755
PAC-OL-165 | 40.184314 | -130.585280
PAC-OL-166 | 40.175981 | -130.585714
PAC-OL-167 | 40.167646 | -130.586058
PAC-OL-168 | 40.159309 | -130.586311
PAC-OL-169 | 40.150970 | -130.586473
PAC-OL-170 | 40.142631 | -130.586545
PAC-OL-171 | 40.134291 | -130.586527
PAC-OL-172 | 40.125952 | -130.586417
PAC-OL-173 | 40.117614 | -130.586218
PAC-OL-174 | 40.109277 | -130.585927
PAC-OL-175 | 40.100943 | -130.585547
PAC-OL-176 | 40.092611 | -130.585076
PAC-OL-177 | 40.084283 | -130.584515
PAC-OL-178 | 40.075958 | -130.583864
PAC-OL-179 | 40.067638 | -130.583122
PAC-OL-180 | 40.059323 | -130.582291
PAC-OL-181 | 40.051013 | -130.581369
PAC-OL-182 | 40.042710 | -130.580358
PAC-OL-183 | 40.034413 | -130.579257
PAC-OL-184 | 40.026124 | -130.578067
PAC-OL-185 | 40.017842 | -130.576787
PAC-OL-186 | 40.009569 | -130.575417
PAC-OL-187 | 40.001305 | -130.573959
PAC-OL-188 | 39.993051 | -130.572411
PAC-OL-189 | 39.984807 | -130.570774
PAC-OL-190 | 39.976573 | -130.569049
PAC-OL-191 | 39.968351 | -130.567234
PAC-OL-192 | 39.960141 | -130.565332
PAC-OL-193 | 39.951943 | -130.563340
PAC-OL-194 | 39.943758 | -130.561261
PAC-OL-195 | 39.935587 | -130.559094
PAC-OL-196 | 39.927430 | -130.556838
PAC-OL-197 | 39.919288 | -130.554495
PAC-OL-198 | 39.911160 | -130.552065
PAC-OL-199 | 39.903049 | -130.549547
PAC-OL-200 | 39.894954 | -130.546943
PAC-OL-201 | 39.886876 | -130.544251
PAC-OL-202 | 39.878815 | -130.541473
PAC-OL-203 | 39.870773 | -130.538608
PAC-OL-204 | 39.862749 | -130.535657
PAC-OL-205 | 39.854744 | -130.532621
PAC-OL-206 | 39.846759 | -130.529498
PAC-OL-207 | 39.838794 | -130.526290
PAC-OL-208 | 39.830850 | -130.522997
PAC-OL-209 | 39.822927 | -130.519619
PAC-OL-210 | 39.815026 | -130.516156
PAC-OL-211 | 39.807148 | -130.512608
PAC-OL-212 | 39.799292 | -130.508977
PAC-OL-213 | 39.791460 | -130.505261
PAC-OL-214 | 39.783652 | -130.501462
PAC-OL-215 | 39.775868 | -130.497580
PAC-OL-216 | 39.768110 | -130.493615
PAC-OL-217 | 39.760377 | -130.489566
PAC-OL-218 | 39.752670 | -130.485436
PAC-OL-219 | 39.744990 | -130.481223
PAC-OL-220 | 39.737337 | -130.476929
PAC-OL-221 | 39.729712 | -130.472553
PAC-OL-222 | 39.722115 | -130.468095
PAC-OL-223 | 39.714547 | -130.463557
PAC-OL-224 | 39.707009 | -130.458939
PAC-OL-225 | 39.699499 | -130.454240
PAC-OL-226 | 39.692021 | -130.449462
PAC-OL-227 | 39.684573 | -130.444604
PAC-OL-228 | 39.677156 | -130.439667
PAC-OL-229 | 39.669771 | -130.434651
PAC-OL-230 | 39.662419 | -130.429557
PAC-OL-231 | 39.655099 | -130.424385
PAC-OL-232 | 39.647813 | -130.419135
PAC-OL-233 | 39.640560 | -130.413808
PAC-OL-234 | 39.633342 | -130.408404
PAC-OL-235 | 39.626159 | -130.402924
PAC-OL-236 | 39.619010 | -130.397367
PAC-OL-237 | 39.611898 | -130.391735
PAC-OL-238 | 39.604822 | -130.386028
PAC-OL-239 | 39.597783 | -130.380245
PAC-OL-240 | 39.590780 | -130.374389
PAC-OL-241 | 39.583816 | -130.368458
PAC-OL-242 | 39.576890 | -130.362454
PAC-OL-243 | 39.570002 | -130.356376
PAC-OL-244 | 39.563153 | -130.350226
PAC-OL-245 | 39.556344 | -130.344004
PAC-OL-246 | 39.549575 | -130.337709
PAC-OL-247 | 39.542847 | -130.331343
PAC-OL-248 | 39.536159 | -130.324907
PAC-OL-249 | 39.529513 | -130.318399
PAC-OL-250 | 39.522909 | -130.311822
PAC-OL-251 | 39.516347 | -130.305175
PAC-OL-252 | 39.509827 | -130.298459
PAC-OL-253 | 39.503351 | -130.291674
PAC-OL-254 | 39.496919 | -130.284822
PAC-OL-255 | 39.490530 | -130.277901
PAC-OL-256 | 39.484186 | -130.270913
PAC-OL-257 | 39.477887 | -130.263859
PAC-OL-258 | 39.471633 | -130.256739
PAC-OL-259 | 39.465425 | -130.249552
PAC-OL-260 | 39.459263 | -130.242301
PAC-OL-261 | 39.453148 | -130.234984
PAC-OL-262 | 39.447080 | -130.227604
PAC-OL-263 | 39.441059 | -130.220160
PAC-OL-264 | 39.435086 | -130.212653
PAC-OL-265 | 39.429161 | -130.205083
PAC-OL-266 | 39.423284 | -130.197451
PAC-OL-267 | 39.417457 | -130.189757
PAC-OL-268 | 39.411679 | -130.182002
PAC-OL-269 | 39.405951 | -130.174187
PAC-OL-270 | 39.400273 | -130.166312
PAC-OL-271 | 39.394646 | -130.158377
PAC-OL-272 | 39.389070 | -130.150384
PAC-OL-273 | 39.383545 | -130.142332
PAC-OL-274 | 39.378071 | -130.134223
PAC-OL-275 | 39.372650 | -130.126056
PAC-OL-276 | 39.367281 | -130.117832
PAC-OL-277 | 39.361965 | -130.109553
PAC-OL-278 | 39.356702 | -130.101218
PAC-OL-279 | 39.351493 | -130.092828
PAC-OL-280 | 39.346337 | -130.084383
PAC-OL-281 | 39.341235 | -130.075885
PAC-OL-282 | 39.336189 | -130.067333
PAC-OL-283 | 39.331196 | -130.058729
PAC-OL-284 | 39.326260 | -130.050073
PAC-OL-285 | 39.321378 | -130.041366
PAC-OL-286 | 39.316553 | -130.032607
PAC-OL-287 | 39.311784 | -130.023799
PAC-OL-288 | 39.307071 | -130.014940
PAC-OL-289 | 39.302415 | -130.006033
PAC-OL-290 | 39.297816 | -129.997077
PAC-OL-291 | 39.293275 | -129.988073
PAC-OL-292 | 39.288791 | -129.979022
PAC-OL-293 | 39.284365 | -129.969925
PAC-OL-294 | 39.279998 | -129.960781
PAC-OL-295 | 39.275689 | -129.951592
PAC-OL-296 | 39.271440 | -129.942359
PAC-OL-297 | 39.267249 | -129.933081
PAC-OL-298 | 39.263118 | -129.923759
PAC-OL-299 | 39.259047 | -129.914395
PAC-OL-300 | 39.255036 | -129.904989
PAC-OL-301 | 39.251085 | -129.895541
PAC-OL-302 | 39.247195 | -129.886052
PAC-OL-303 | 39.243365 | -129.876522
PAC-OL-304 | 39.239597 | -129.866953
PAC-OL-305 | 39.235890 | -129.857345
PAC-OL-306 | 39.232244 | -129.847699
PAC-OL-307 | 39.228661 | -129.838015
PAC-OL-308 | 39.225139 | -129.828294
PAC-OL-309 | 39.221680 | -129.818536
PAC-OL-310 | 39.218283 | -129.808743
PAC-OL-311 | 39.214949 | -129.798914
PAC-OL-312 | 39.211678 | -129.789051
PAC-OL-313 | 39.208471 | -129.779154
PAC-OL-314 | 39.205326 | -129.769224
PAC-OL-315 | 39.202245 | -129.759262
PAC-OL-316 | 39.199229 | -129.749268
PAC-OL-317 | 39.196276 | -129.739243
PAC-OL-318 | 39.193387 | -129.729187
PAC-OL-319 | 39.190563 | -129.719101
PAC-OL-320 | 39.187803 | -129.708987
PAC-OL-321 | 39.185109 | -129.698844
PAC-OL-322 | 39.182479 | -129.688673
PAC-OL-323 | 39.179914 | -129.678475
PAC-OL-324 | 39.177415 | -129.668251
PAC-OL-325 | 39.174981 | -129.658001
PAC-OL-326 | 39.172613 | -129.647726
PAC-OL-327 | 39.170310 | -129.637427
PAC-OL-328 | 39.168074 | -129.627104
PAC-OL-329 | 39.165904 | -129.616759
PAC-OL-330 | 39.163800 | -129.606391
PAC-OL-331 | 39.161762 | -129.596001
PAC-OL-332 | 39.159791 | -129.585591
PAC-OL-333 | 39.157887 | -129.575160
PAC-OL-334 | 39.156049 | -129.564710
PAC-OL-335 | 39.154278 | -129.554241
PAC-OL-336 | 39.152575 | -129.543754
PAC-OL-337 | 39.150938 | -129.533250
PAC-OL-338 | 39.149369 | -129.522729
PAC-OL-339 | 39.147867 | -129.512192
PAC-OL-340 | 39.146433 | -129.501640
PAC-OL-341 | 39.145066 | -129.491073
PAC-OL-342 | 39.143766 | -129.480492
PAC-OL-343 | 39.142535 | -129.469899
PAC-OL-344 | 39.141371 | -129.459292
PAC-OL-345 | 39.140275 | -129.448674
PAC-OL-346 | 39.139248 | -129.438045
PAC-OL-347 | 39.138288 | -129.427406
PAC-OL-348 | 39.137396 | -129.416757
PAC-OL-349 | 39.136573 | -129.406099
PAC-OL-350 | 39.135817 | -129.395433
PAC-OL-351 | 39.135130 | -129.384759
PAC-OL-352 | 39.134511 | -129.374079
PAC-OL-353 | 39.133961 | -129.363392
PAC-OL-354 | 39.133479 | -129.352700
PAC-OL-355 | 39.133065 | -129.342004
PAC-OL-356 | 39.132720 | -129.331303
PAC-OL-357 | 39.132444 | -129.320600
PAC-OL-358 | 39.132235 | -129.309893
PAC-OL-359 | 39.132096 | -129.299185
PAC-OL-360 | 39.132025 | -129.288476
PAC-OL-361 | 39.132022 | -129.277767
PAC-OL-362 | 39.132088 | -129.267058
PAC-OL-363 | 39.132222 | -129.256349
PAC-OL-364 | 39.132425 | -129.245643
PAC-OL-365 | 39.132697 | -129.234939
PAC-OL-366 | 39.133036 | -129.224238
PAC-OL-367 | 39.133445 | -129.213542
PAC-OL-368 | 39.133921 | -129.202849
PAC-OL-369 | 39.134466 | -129.192162
PAC-OL-370 | 39.135080 | -129.181481
PAC-OL-371 | 39.135762 | -129.170807
PAC-OL-372 | 39.136512 | -129.160141
PAC-OL-373 | 39.137330 | -129.149482
PAC-OL-374 | 39.138216 | -129.138832
PAC-OL-375 | 39.139171 | -129.128192
PAC-OL-376 | 39.140194 | -129.117562
PAC-OL-377 | 39.141284 | -129.106943
PAC-OL-378 | 39.142443 | -129.096336
PAC-OL-379 | 39.143669 | -129.085741
PAC-OL-380 | 39.144963 | -129.075160
PAC-OL-381 | 39.146324 | -129.064592
PAC-OL-382 | 39.194329 | -128.479047

PAC-OL-001 and PAC-OL-382 are located on the 200 nautical mile (exclusive economic zone) limit of the United States.

Elizabeth Kim,
Director, Office of Ocean and Polar Affairs, Department of State.

[FR Doc. 2023-28159 Filed 12-20-23; 8:45 am]

BILLING CODE 4710-09-P